DEPARTMENT OF HOMELAND SECURITY

Coast Guard

33 CFR Part 165

[Docket No. USCG-2019-0460]

Public Hearings on Liquefied Gas Carriers Transiting Through San Juan Harbor, San Juan, PR

AGENCY: Coast Guard, DHS.

ACTION: Notice of public meetings.

SUMMARY: The Coast Guard announces two public meetings to receive comments regarding the safe navigation and mooring of liquefied natural gas carriers through the San Juan Harbor, San Juan PR.

DATES: The public meetings will be held from 1:00 p.m. to 3:00 p.m., and from 5:00 p.m. to 7:00 p.m. on July 26, 2019 to provide an opportunity for verbal comments. Written comments and related material may also be submitted to Coast Guard personnel specified at that meeting. All comments and related material submitted after the meeting must be received by the Coast Guard on or before August 4, 2019.

ADDRESSES: The public meetings will be held at Sheraton Puerto Rico Hotel and Casino, 200 Convention Boulevard, San Juan, PR 00907, (787) 993-3500.

Comment submission: You may submit comments associated with docket number USCG-2019-0460 using the Federal eRulemaking Portal at https://www.regulations.gov.

FOR FURTHER INFORMATION CONTACT: If you have any questions concerning the meeting, please call or email LCDR Pedro Mendoza, Sector San Juan Prevention Department, Waterways Management Division, U.S. Coast Guard; telephone 787-729-2374, email Pedro.L.Mendoza@uscg.mil.

SUPPLEMENTARY INFORMATION:

Background and Purpose

The Coast Guard Sector San Juan and New Fortress Energy will be hosting public meetings on July 26, 2019 from 1:00 p.m. to 3:00 p.m., and from 5:00 p.m. to 7 p.m., for the general public to provide comments regarding the proposed adjustment to the current safety zone established under 33 CFR 165.754, “Safety Zone: San Juan Harbor, San Juan, PR”.

On Dec. 12, 2017, the U.S. Coast Guard received a Letter of Intent and Waterway Suitability Assessment from New Fortress Energy to construct and operate the required infrastructure for offloading and transferring liquefied natural gas at the Army Terminal Turning Basin in San Juan, Puerto Rico. After reviewing New Fortress Energy's request and providing recommendations, on September 26, 2018, the Coast Guard Sector San Juan determined the Port of San Juan is suitable for the proposed operation.

These public meetings will allow attendees to submit comments on the proposed safety zone adjustment. The proposed amendment is intended to address the operation of LNG gas carriers and add the new facility within the San Juan Harbor, San Juan, PR.

We encourage you to participate by submitting comments either verbally at the meeting or in writing. If you bring written comments to the meeting, you may submit them to Coast Guard personnel specified at the meeting to receive written comments. These comments will be submitted to our online public docket. All comments received will be posted without change to https://www.regulations.gov and will include any personal information you have provided.

Comments submitted after the meeting must reach the Coast Guard on or before August 4, 2019. We encourage you to submit comments through the Federal eRulemaking Portal at https://www.regulations.gov. If your material cannot be submitted using https://www.regulations.gov, contact the person in the FOR FURTHER INFORMATION CONTACT section of this document for alternate instructions.

Anyone can search the electronic form of comments received into any of our dockets by the name of the individual submitting the comment (or signing the comment, if submitted on behalf of an association, business, labor union, etc.). You may review a Privacy Act notice regarding our public dockets in the March 24, 2005, issue of the Federal Register (70 FR 15086).

Information on Service for Individuals With Disabilities

For information on facilities or services for individuals with disabilities or to request special assistance at the public meeting, contact LCDR Pedro Mendoza at the telephone number or email address provided under the FOR FURTHER INFORMATION CONTACT section of this notice.

Dated: July 12, 2019.
E. P. King,
Captain, U.S. Coast Guard, Captain of the Port San Juan.

[FR Doc. 2019-15267 Filed 7-17-19; 8:45 am]

BILLING CODE 9110-04-P